ENVIRONMENTAL PROTECTION AGENCY

40 CFR Part 52

[R08-ND-2006-0001; FRL-8274-6]

Approval and Promulgation of Air Quality Implementation Plans; Revised Format for Materials Being Incorporated by Reference for North Dakota

AGENCY: Environmental Protection Agency (EPA).

ACTION: Final rule; notice of administrative change.

SUMMARY: EPA is revising the format of 40 CFR part 52 for materials submitted by the State of North Dakota that are incorporated by reference (IBR) into its State Implementation Plan (SIP). The regulations affected by this format change have all been previously submitted by North Dakota and approved by EPA.

DATES: Effective Date: This action is effective March 1, 2007.

ADDRESSES: SIP materials which are incorporated by reference into 40 CFR part 52 are available for inspection Monday through Friday, 8 a.m. to 4 p.m., excluding Federal holidays, at the Air and Radiation Program, Environmental Protection Agency (EPA), Region 8, 1595 Wynkoop Street, Denver, Colorado 80202-1129. EPA requests that, if at all possible, you contact the individual listed in the FOR FURTHER INFORMATION CONTACT section to arrange a time to view the hard copy of the North Dakota SIP compilation. An electronic copy of the North Dakota regulations we have approved for incorporation into the SIP are also available by accessing http://www.epa.gov/region8/air/sip.html. A hard copy of the regulatory and source-specific portions of the compilation will also be maintained at the Air and Radiation Docket and Information Center, EPA West Building, Room 3334, 1301 Constitution Ave., NW., Washington, DC 20460 and the National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

FOR FURTHER INFORMATION CONTACT: Amy Platt, EPA Region 8, at (303) 312-6449, or Platt.Amy@epa.gov.

SUPPLEMENTARY INFORMATION: Throughout this document, wherever “we” or “our” is used it means the EPA.

Table of Contents

I. Change of IBR Format

A. Description of a SIP

B. How EPA Enforces the SIP

C. How the State and EPA Update the SIP

D. How EPA Compiles the SIP

E. How EPA Organizes the SIP Compilation

F. Where You Can Find a Copy of the SIP Compilation

G. The Format of the New Identification of Plan Section

H. When a SIP Revision Becomes Federally Enforceable

I. The Historical Record of SIP Revision Approvals

II. What EPA is Doing in This Action

III. Good Cause Exemption

IV. Statutory and Executive Order Review

I. Change in IBR Format

This format revision will affect the “Identification of plan” section of 40 CFR part 52, as well as the format of the SIP materials that will be available for public inspection at the National Archives and Records Administration (NARA); the Air and Radiation Docket and Information Center located at EPA Headquarters in Washington, DC, and the EPA Region 8 Office.

A. Description of a SIP

Each state has a SIP containing the control measures and strategies used to attain and maintain the national ambient air quality standards (NAAQS) and achieve certain other Clean Air Act (Act) requirements (e.g., visibility requirements, prevention of significant deterioration). The SIP is extensive, containing such elements as air pollution control regulations, emission inventories, monitoring network descriptions, attainment demonstrations, and enforcement mechanisms.

B. How EPA Enforces the SIP

Each SIP revision submitted by North Dakota must be adopted at the state level after undergoing reasonable notice and public hearing. SIPs submitted to EPA to attain or maintain the NAAQS must include enforceable emission limitations and other control measures, schedules and timetables for compliance.

EPA evaluates submitted SIPs to determine if they meet the Act's requirements. If a SIP meets the Act's requirements, EPA will approve the SIP. EPA's notice of approval is published in the Federal Register and the approval is then codified in the Code of Federal Regulations (CFR) at 40 CFR part 52. Once EPA approves a SIP, it is enforceable by EPA and citizens in Federal district court.

We do not reproduce in 40 CFR part 52 the full text of the North Dakota regulations that we have approved; instead, we incorporate them by reference (“IBR”). We approve a given state regulation with a specific effective date and then refer the public to the location(s) of the full text version of the state regulation(s) should they want to know which measures are contained in a given SIP (see “I.F. Where You Can Find a Copy of the SIP Compilation”).

C. How the State and EPA Update the SIP

The SIP is a living document which the state can revise as necessary to address the unique air pollution problems in the state. Therefore, EPA from time to time must take action on SIP revisions containing new and/or revised regulations.

On May 22, 1997 (62 FR 27968), EPA announced revised procedures for incorporating by reference federally approved SIPs. The procedures announced included: (1) A new process for incorporating by reference material submitted by states into compilations and a process for updating those compilations on roughly an annual basis; (2) a revised mechanism for announcing EPA approval of revisions to an applicable SIP and updating both the compilations and the CFR; and (3) a revised format for the “Identification of plan” sections for each applicable subpart to reflect these revised IBR procedures.

D. How EPA Compiles the SIP

We have organized into a compilation the federally-approved regulations, source-specific requirements and nonregulatory provisions we have approved into the SIP. We maintain hard copies of the compilation in binders and we primarily update these binders on an annual basis.

E. How EPA Organizes the SIP Compilation

Each compilation contains three parts. Part one contains the state regulations, part two contains the source-specific requirements that have been approved as part of the SIP (if any), and part three contains nonregulatory provisions that we have approved. Each compilation contains a table of identifying information for each regulation, each source-specific requirement, and each nonregulatory provision. The state effective dates in the tables indicate the date of the most recent revision to a particular regulation. The table of identifying information in the compilation corresponds to the table of contents published in 40 CFR part 52 for the state. The EPA Regional Offices have the primary responsibility for ensuring accuracy and updating the compilations.

F. Where You Can Find a Copy of the SIP Compilation

EPA Region 8 developed and will maintain a hard copy of the compilation for North Dakota. An electronic copy of the North Dakota regulations we have approved are available on the following Web site: http://www.epa.gov/region8/air/sip.html. A hard copy of the regulatory and source-specific portions of the compilation will also be maintained at the Air and Radiation Docket and Information Center, EPA West Building, Room 3334, 1301 Constitution Ave., NW., Washington, DC 20460; and National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

G. The Format of the New Identification of Plan Section

In order to better serve the public, EPA has revised the organization of the “Identification of plan” section in 40 CFR part 52 and included additional information to clarify the elements of the SIP.

The revised Identification of plan section for North Dakota contains five subsections:

1. Purpose and scope (see 40 CFR 52.1820(a));

2. Incorporation by reference (see 40 CFR 52.1820(b));

3. EPA-approved regulations (see 40 CFR 52.1820(c));

4. EPA-approved source-specific requirements (see 40 CFR 52.1820(d)); and

5. EPA-approved nonregulatory provisions such as transportation control measures, statutory provisions, control strategies, monitoring networks, etc. (see 40 CFR 52.1820(e)).

H. When a SIP Revision Becomes Federally Enforceable

All revisions to the applicable SIP are Federally enforceable as of the effective date of EPA's approval of the respective revisions. In general, SIP revisions become effective 30 to 60 days after publication of EPA's SIP approval action in the Federal Register. In specific cases, a SIP revision action may become effective less than 30 days or greater than 60 days after the Federal Register publication date. In order to determine the effective date of EPA's approval for a specific North Dakota SIP provision that is listed in paragraph 40 CFR 52.1820 (c), (d), or (e), consult the volume and page of the Federal Register cited in the “EPA approval date” column of 40 CFR 52.1820 for that particular provision.

I. The Historical Record of SIP Revision Approvals

To facilitate enforcement of previously approved SIP provisions and to provide a smooth transition to the new SIP processing system, we are retaining the original Identification of plan section (see 40 CFR 52.1837). This section previously appeared at 40 CFR 52.1820. After an initial two-year period, we will review our experience with the new table format and will decide whether or not to retain the original Identification of plan section (40 CFR 52.1837) for some further period.

II. What EPA Is Doing in This Action

Today's action constitutes a “housekeeping” exercise to reformat the codification of the EPA-approved North Dakota SIP.

III. Good Cause Exemption

EPA has determined that today's action falls under the “good cause” exemption in section 553(b)(3)(B) of the Administrative Procedure Act (APA) which, upon a finding of “good cause,” authorizes agencies to dispense with public participation, and section 553(d)(3), which allows an agency to make a rule effective immediately (thereby avoiding the 30-day delayed effective date otherwise provided for in the APA). Today's action simply reformats the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

IV. Statutory and Executive Order Review

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules is discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply reformats the codification of provisions which are already in effect as a matter of law. 5 U.S.C. 808(2). As stated previously, EPA has made such a good cause finding, including the reasons therefore, and established an effective date of March 1, 2007. EPA will submit a report containing this rule and other required information to the U.S. Senate, the U.S. House of Representatives, and the Comptroller General of the United States prior to publication of the rule in the Federal Register. These corrections to the Identification of plan for South Dakota is not a “major rule” as defined by 5 U.S.C. 804(2).

C. Petitions for Judicial Review

EPA has also determined that the provisions of section 307(b)(1) of the Clean Air Act pertaining to petitions for judicial review are not applicable to this action. Prior EPA rulemaking actions for each individual component of the North Dakota SIP compilation had previously afforded interested parties the opportunity to file a petition for judicial review in the United States Court of Appeals for the appropriate circuit within 60 days of such rulemaking action. Thus, EPA sees no need to reopen the 60-day period for filing such petitions for judicial review for this reorganization of the “Identification of plan” section of 40 CFR 52.1820 for North Dakota.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 19, 2006.
Robert E. Roberts,
Regional Administrator, Region 8.

Part 52 of chapter I, title 40, Code of Federal Regulations, is amended as follows:

PART 52—[AMENDED]

1. The authority for citation for part 52 continues to read as follows:

Authority: 42 U.S.C. 7401 et seq.

Subpart JJ—North Dakota

2. Section 52.1820 is redesignated as § 52.1837 and the section heading and paragraph (a) are revised to read as follows:

§ 52.1837 Original identification of plan section.

(a) This section identifies the original “Air Implementation Plan for the State of North Dakota” and all revisions submitted by North Dakota that were federally approved prior to July 31, 2006.

* * * * *

3. A new § 52.1820 is added to read as follows:

§ 52.1820 Identification of plan.

(a) Purpose and scope. This section sets forth the applicable State Implementation Plan for North Dakota under section 110 of the Clean Air Act, 42 U.S.C. 7410 and 40 CFR part 51 to meet national ambient air quality standards or other requirements under the Clean Air Act.

(b) Incorporation by reference. (1) Material listed in paragraphs (c), (d), and (e) of this section with an EPA approval date prior to July 31, 2006, was approved for incorporation by reference by the Director of the Federal Register in accordance with 5 U.S.C. § 552(a) and 1 CFR part 51. Material is incorporated as submitted by the state to EPA, and notice of any change in the material will be published in the Federal Register. Entries for paragraphs (c), (d), and (e) of this section with EPA approval dates after July 31, 2006, will be incorporated by reference in the next update to the SIP compilation.

(2) EPA Region 8 certifies that the rules/regulations provided by EPA in the SIP compilation at the addresses in paragraph (b)(3) of this section are an exact duplicate of the officially promulgated state rules/regulations which have been approved as part of the State Implementation Plan as of July 31, 2006.

(3) Copies of the materials incorporated by reference may be inspected at the Environmental Protection Agency, Region 8, 1595 Wynkoop Street, Denver, Colorado, 80202-1129; Air and Radiation Docket and Information Center, EPA West Building, 1301 Constitution Ave., NW., Washington, DC 20460; and the National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

(c) EPA approved regulations.

State of North Dakota Regulations
State citation | Title/subject | State effective date | EPA approval date and citation ¹ | Explanations
33-15-01 General Provisions
33-15-01-01 | Purpose | 10/1/87 | 5/12/89, 54 FR 20574
33-15-01-02 | Scope | 10/1/87 | 5/12/89, 54 FR 20574
33-15-01-03 | Authority | 9/1/97 | 4/2/04, 69 FR 17302
33-15-01-04 | Definitions | 3/1/03 | 10/21/04, 69 FR 61762
33-15-01-5 | Abbreviations | 10/1/87 | 5/12/89, 54 FR 20574
| Except the following abbreviations: CFR, PM10, scmh, TSP, & ohm | 1/1/89 | 8/9/90, 55 FR 32403
33-15-01-06 | Entry onto premises—Authority | 10/1/87 | 5/12/89, 54 FR 20574
33-15-01-07 | Variances: Subsection 1 and Subsection 2 | 10/1/87 6/1/90 | 5/12/89, 54 FR 20574. 6/26/92, 57 FR 28619
33-15-01-08 | Circumvention | 6/1/90 | 6/26/92, 57 FR 28619
33-15-01-09 | Severability | 10/1/87 | 5/12/89, 54 FR 20574
33-15-01-10 | Land use plans and zoning regulations | 10/1/87 | 5/12/89, 54 FR 20574
33-15-01-11 | Reserved | 10/1/87 | 5/12/89, 54 FR 20574
33-15-01-12 | Measurements of emissions of air contaminants | 6/1/01 | 2/28/03, 68 FR 9565
33-15-01-13 | Shutdown and malfunction of an installation—Requirements for notification | 10/1/87 | 5/12/89, 54 FR 20574 | Excluding subsection 2(b) which was subsequently revised and approved. See below.
33-15-01-13.2(b) | Malfunctions | 9/1/97 | 8/27/98, 63 FR 45722
33-15-01-14 | Time schedule for compliance | 10/1/87 | 5/12/89, 54 FR 20574
33-15-01-15 | Prohibition of air pollution | 6/1/01 | 2/28/03, 68 FR 9565
33-15-01-16 | Confidentiality of records | 10/1/87 | 5/12/89, 54 FR 20574
33-15-01-17 | Enforcement | 3/1/03 | 10/21/04, 69 FR 61762
33-15-01-18 | Compliance certifications | 3/1/03 | 10/21/04, 69 FR 61762
33-15-02 Ambient Air Quality Standards
33-15-02-01 | Scope | 10/1/87 | 5/12/89, 54 FR 20574
33-15-02-02 | Purpose | 10/1/87 | 5/12/89, 54 FR 20574
33-15-02-03 | Air quality guidelines | 10/1/87 | 5/12/89, 54 FR 20574
33-15-02-04 | Ambient air quality standards | 9/1/98 | 8/31/99, 64 FR 47395 | See additional interpretive materials cited in 64 FR 47395, 8/31/99.
33-15-02-05 | Method of sampling and analysis | 12/1/94 | 10/8/96, 61 FR 52865
33-15-02-06 | Reference conditions | 10/1/87 | 5/12/89, 54 FR 20574
33-15-02-07 | Concentration of air contaminants in the ambient air restricted | 10/1/87 | 5/12/89, 54 FR 20574 | Excluding subsection 3 and 4 which were subsequently revised and approved. See below.
33-15-02, Table 1 | Ambient Air Quality Standards | 12/1/94 | 10/8/96, 61 FR 52865
33-15-02-07.3, 33-15-02-07.4 and 33-15-02, Table 2 | Concentration of air contaminants in the ambient air restricted and National Ambient Air Quality Standards table | 9/1/98 | 8/31/99, 64 FR 47395 | See additional interpretive materials cited in 64 FR 47395, 8/31/99.
33-15-03 Restrictions of Visible Air Contaminants
33-15-03-01 | Restrictions applicable to existing installations | 10/1/87 | 5/12/89, 54 FR 20574
33-15-03-02 | Restrictions applicable to new installations and all incinerators | 10/1/87 | 5/12/89, 54 FR 20574
33-15-03-03 | Restrictions applicable to fugitive emissions | 10/1/87 | 5/12/89, 54 FR 20574
33-15-03-03.1 | Restrictions applicable to flares | 10/1/87 | 5/12/89, 54 FR 20574
33-15-03-04 | Exceptions | 2/1/82 | 11/12/82, 47 FR 51131
33-15-03-05 | Method of measurement | 10/1/87 | 5/12/89, 54 FR 20574
33-15-04 Open Burning Restrictions
33-15-04-01 | Refuse burning restrictions | 1/1/96 | 4/21/97, 62 FR 19224
33-15-04-02 | Permissible open burning | 1/1/96 | 4/21/97, 62 FR 19224
33-15-05 Emissions of Particulate Matter Restricted
33-15-05-01 | Restrictions of emissions of particulate matter from industrial processes | 10/1/87 | 5/12/89, 54 FR 20574
33-15-05-02 | Maximum allowable emissions of particulate matter from fuel burning equipment used for indirect heating | 3/1/03 | 10/21/04, 69 FR 61762
33-15-05-03 | Incinerators (repealed) | 8/1/95 | 4/21/97, 62 FR 19224
33-15-05-03.1 | Infectious waste incinerators (repealed) | 7/12/00 | 2/28/03, 68 FR 9565
33-15-05-03.2 | Refuse incinerators | 8/1/95 | 4/21/97, 62 FR 19224
33-15-05-03.3 | Other waste incinerators | 3/1/03 | 10/21/04, 69 FR 61762
33-15-05-04 | Methods of measurement | 3/1/03 | 10/21/04, 69 FR 61762
33-15-06 Emissions of Sulfur Compounds Restricted
33-15-06-01 | Restrictions of emissions of sulfur dioxide from use of fuel | 3/1/03 | 10/21/04, 69 FR 61762 | See additional interpretive materials cited in 63 FR 45722, 8/27/98.
33-15-06-02 | Restrictions of emissions of sulfur oxides from industrial processes | 6/1/92 | 10/20/93, 58 FR 54041
33-15-06-03 | Methods of measurement | 3/1/03 | 10/21/04, 69 FR 61762
33-15-06-04 | Continuous emission monitoring requirements | 6/1/92 | 10/20/93, 58 FR 54041
33-15-06-05 | Reporting and recordkeeping requirements | 6/1/92 | 10/20/93, 58 FR 54041
33-15-07 Control of Organic Compounds Emissions
33-15-07-01 | Requirements for construction of organic compounds facilities | 6/1/92 | 8/21/95, 60 FR 43396 | Excluding subsection 1 which was subsequently revised and approved. See below.
33-15-07-01.1 | Scope | 9/1/98 | 8/31/99, 64 FR 47395
33-15-07-02 | Requirements for organic compounds gas disposal | 6/1/92 | 8/21/95, 60 FR 43396
33-15-08 Control of Air Pollution From Vehicles and Other Internal Combustion Engines
33-15-08-01 | Internal combustion engine emissions restricted | 7/1/78 | 11/2/79, 44 FR 63102
33-15-08-02 | Removal or disabling of motor vehicle pollution control devices prohibited | 7/1/78 | 11/2/79, 44 FR 63102
33-15-10 Control of Pesticides
33-15-10-01 | Pesticide use restricted Subsection 1 and Subsection 2 | 10/1/87 1/1/89 | 5/12/89, 54 FR 20574. 8/9/90, 55 FR 32403
33-15-10-02 | Restrictions on the disposal of surplus pesticides and empty pesticide containers | 10/1/87 | 5/12/89, 54 FR 20574 | Excluding subsections 2, 3, 4, and 5 which were subsequently revised and approved. See below.
33-15-10-02.2, 33-15-10-02.3, 33-15-10-02.4 | Restrictions on the disposal of surplus pesticides and empty pesticide containers | 1/1/89 | 8/9/90, 55 FR 32403
33-15-10-02.5 | Restrictions on the disposal of surplus pesticides and empty pesticide containers | 6/1/90 | 6/26/92, 57 FR 28619
33-15-11 Prevention of Air Pollution Emergency Episodes
33-15-11-01 | Air pollution emergency | 10/1/87 | 5/12/89, 54 FR 20574
33-15-11-02 | Air pollution episode criteria | 10/1/87 | 5/12/89, 54 FR 20574
33-15-11-03 | Abatement strategies emission reduction plans | 10/1/87 | 5/12/89, 54 FR 20574
33-15-11-04 | Preplanned abatement strategies plans | 10/1/87 | 5/12/89, 54 FR 20574
33-15-11-Table 6 | Air pollution episode criteria | 8/1/95 | 4/21/97, 62 FR 19224
33-15-11-Table 7 | Abatement strategies emission reduction plans | 8/1/95 | 4/21/97, 62 FR 19224
33-15-14 Designated Air Contaminant Sources, Permit to Construct, Minor Source Permit to Operate, Title V Permit to Operate
33-15-14-01 | Designated air contaminant sources | 8/1/95 | 4/21/97, 62 FR 19224
33-15-14-01.1 | Definitions | 1/1/96 | 4/21/97, 62 FR 19224
33-15-14-02 | Permit to construct | 3/1/94 | 8/21/95, 60 FR 43396 | Excluding subsections 12, 3.c, 13.b.1, 5, 13.c, 13.i(5), and 19 (one sentence) which were subsequently revised and approved. See below. See additional interpretive materials cited in 57 FR 28619, 6/26/92, regarding the State's commitment to meet the requirements of EPA's “Guideline on Air Quality Models (Revised).”
33-15-14-02.12 | [Reserved] | 8/1/95 & 1/1/96 | 4/21/97, 62 FR 19224 | Moved this section related to fees for Permit to Construct to a new chapter, 33-15-23, Fees.
33-15-14-02.3.c | Alterations to a source | 9/1/98 | 8/31/99, 64 FR 47395 | See additional interpretive materials cited in 64 FR 47395, 8/31/99.
33-15-14-02.13.b.1 | Exemptions | 6/1/01 | 2/28/03, 68 FR 9565
33-15-14-02.5, 33-15-14-02.13.c and 33-15-14-02.13.i(5) | Review of application—standard for granting permits to construct and exemptions | 3/1/03 | 8/8/05, 70 FR 45539
33-15-14-02.19 (one sentence—see explanation) | Amendment of permits | 3/1/03 | 1/24/06, 71 FR 3764 | Only one sentence was revised and approved with this action. That sentence reads: “In the event that the modification would be a major modification as defined in Chapter 33-15-15, the department shall follow the procedures established in Chapter 33-15-15.” The remainder of subsection 19 was approved on 8/21/95 (60 FR 43396). See above.
33-15-14-03 | Minor source permit to operate | 3/1/94 | 8/21/95, 60 FR 43396 | Excluding subsections 10, 1.c, 4, 5.a(1)(d), 11, and 16 (one sentence) which were subsequently revised and approved. See below. Also see 40 CFR 52.1834.
33-15-14-03.10 | [Reserved] | 8/1/95 & 1/1/96 | 4/21/97, 62 FR 19224 | Moved this section related to fees for Permit to Operate to a new chapter, 33-15-23, Fees.
33-15-14-03.1.c | Permit to operate required | 6/1/01 | 2/28/03, 68 FR 9565
33-15-14-03.4, 33-15-14-03.5.a(1)(d) & 33-15-14-03.11 | Performance testing, action on applications, and performance and emission testing | 3/1/03 | 8/8/05, 70 FR 45539
33-15-14-03.16 (One sentence—see explanation) | Amendment of permits | 3/1/03 | 1/24/06, 71 FR 3764 | Only one sentence was revised and approved with this action. That sentence reads: “In the event that the modification would be a major modification as defined in Chapter 33-15-15, the department shall follow the procedures established in Chapter 33-15-15.” The remainder of subsection 16 was approved on 8/21/95 (60 FR 43396). See above.
33-15-14-04 | Permit fees (repealed) | 3/1/94 | 8/21/95, 60 FR 43396
33-15-14-05 | Common provisions applicable to both permit to construct and permit to operate (repealed) | 3/1/94 | 8/21/95, 60 FR 43396
33-15-14-07 | Source exclusion from title V permit to operate requirements | 6/1/01 | 2/28/03, 68 FR 9565
33-15-15 Prevention of Significant Deterioration of Air Quality
33-15-15-01 | General provisions | 6/1/92 | 8/21/95, 60 FR 43396 | Excluding subsections 1.a(3), 1.a(4), 1.c, 1.e(4), 1.h, 1.i, 1.m, 1.x(2)(h-k), 1.aa(2)(c), 1.bb, 1.dd, 1.ee, 1.ff, 4.d(3)(a), 4.j(4)(b), 1.hh, 2, 1.x.2(d), and 4.h(3) which were subsequently revised and approved. See below. See additional interpretive materials cited in 56 FR 12848, 3/28/91, regarding NOX increments and in 57 FR 28619, 6/26/92, regarding the State's commitment to meet the requirements of EPA's “Guideline on Air Quality Models (Revised).” Also see 40 CFR 52.1829.
33-15-15-01. subsections: 1.a(3), 1.a(4), 1.c, 1.e(4), 1.h, 1.i, 1.m, 1.x(2)(h-k), 1.aa(2)(c), 1.bb, 1.dd, 1.ee, & 1.ff, 4.d(3)(a), & 4.j(4)(b) | Definitions & review of new major stationary sources and major modifications | 3/1/94 | 11/3/95, 60 FR 55792
33-15-15-01.1.hh & 33-15-15-01.2 | Definitions & significant deterioration of air quality—area designation and deterioration increment | 6/1/01 | 2/28/03, 68 FR 9565
33-15-15-01.1.x.2(d) & 33-15-15-01.4.h(3) | Definitions & review of new major stationary sources and major modifications | 3/1/03 | 8/8/05, 70 FR 45539
33-15-15-02 | Reclassification | 1/1/89 | 8/9/90, 55 FR 32403
33-15-17 Restriction of Fugitive Emissions
33-15-17-01 | General provisions—applicability and designation of affected facilities | 6/1/01 | 2/28/03, 68 FR 9565
33-15-17-02 | Restriction of fugitive particulate emissions | 1/1/96 | 4/21/97, 62 FR 19224
33-15-17-03 | Reasonable precautions for abating and preventing fugitive particulate emissions | 6/20/78 | 11/2/79, 44 FR 63102
33-15-17-04 | Restriction of fugitive gaseous emissions | 6/20/78 | 11/2/79, 44 FR 63102
33-15-18 Stack Heights
33-15-18-01 | General provisions | 10/1/87 | 11/14/88, 53 FR 45763
33-15-18-02 | Good engineering practice demonstrations | 10/1/87 | 11/14/88, 53 FR 45763
33-15-18-03 | Exemptions | 10/1/87 | 11/14/88, 53 FR 45763
33-15-19 Visibility Protection
33-15-19-01 | General provisions | 10/1/87 | 9/28/88, 53 FR 37757
33-15-19-02 | Review of new major stationary sources and major modifications | 10/1/87 | 9/28/88, 53 FR 37757
33-15-19-03 | Visibility monitoring | 10/1/87 | 9/28/88, 53 FR 37757
33-15-20 Control of Emissions From Oil and Gas Well Production Facilities
33-15-20-01 | General provisions | 6/1/92 | 8/21/95, 60 FR 43396
33-15-20-02 | Registration and reporting requirements | 6/1/92 | 8/21/95, 60 FR 43396
33-15-20-03 | Prevention of significant deterioration applicability and source information requirements | 6/1/92 | 8/21/95, 60 FR 43396
33-15-20-04 | Requirements for control of production facility emissions | 6/1/90 | 6/26/92, 57 FR 28619
33-15-23 Fees
33-15-23-01 | Definitions | 8/1/95 | 4/21/97, 62 FR 19224
33-15-23-02 | Permit to construct fees | 8/1/95 | 4/21/97, 62 FR 19224
33-15-23-03 | Minor source permit to operate fees | 8/1/95 | 4/21/97, 62 FR 19224
¹ In order to determine the EPA effective date for a specific provision listed in this table, consult the Federal Register notice cited in this column for the particular provision.

(d) EPA-approved source-specific requirements.

Name of source | Nature of requirement | State effective date | EPA approval date and citation ² | Explanations
—Tesoro Mandan Refinery —Leland Olds Station Units 1 & 2 —Milton R. Young Unit 1 —Heskett Station Units 1 & 2 —Stanton Station Unit 1 —American Crystal Sugar at Drayton | SIP Chapter 8, Section 8.3, Continuous Emission Monitoring Requirements for Existing Stationary Sources, including amendments to Permits to Operate and Department Order | 5/6/77 | 10/17/77, 42 FR 55471. |
² In order to determine the EPA effective date for a specific provision listed in this table, consult the Federal Register notice cited in this column for the particular provision.

(e) EPA-approved nonregulatory provisions.

Name of nonregulatory SIP provision | Applicable geographic or non-attainment area | State submittal date/adopted date | EPA approval date and citation ³ | Explanations
(1) Implementation Plan for the Control of Air Pollution for the State of North Dakota Chapters: 1. Introduction 2. Legal Authority 3. Control Strategy 4. Compliance Schedule 5. Prevention of Air Pollution Emergency Episodes 7. Review of New Sources and Modifications 8. Source Surveillance 9. Resources 10. Inter-governmental Cooperation 11. Rules and Regulations | Statewide | Submitted: 1/24/72 Adopted: 1/24/72 Clarification submitted: 6/14/73 2/19/74 6/26/74 11/21/74 4/23/75 | 5/31/72, 37 FR 10842 with all clarifications on 3/2/76, 41 FR 8956 | Excluding subsequent revisions, as follows: Chapters 6, 11, and 12 and Sections 2.11, 3.2.1, 3.7, 5.2.1, 6.10, 6.11, 6.13, 8.3. Revisions to these non-regulatory provisions have subsequently been approved. See below.
With subsequent revisions to the chapters as follows:
(2) Revisions to SIP Chapter 8, Section 8.3 |  | Submitted: 5/26/77 | 10/17/77, 42 FR 55471
(3) Revisions to SIP Chapter 2, Section 2.11 |  | Submitted: 1/17/80 | 8/12/80, 45 FR 53475
(4) SIP Chapter 6, Air Quality Surveillance |  | Submitted: 1/17/80 | 8/12/80, 45 FR 53475
(5) Revisions to SIP Chapter 6, Section 6.10 |  | Submitted: 1/26/88 | 9/28/88, 53 FR 37757
(6) Revisions to SIP Chapter 3, Section 3.7 |  | Submitted: 4/18/89 | 10/5/89, 54 FR 41094
(7) Revisions to SIP Chapter 3, Section 3.2.1 |  | Submitted: 4/18/89 | 8/9/90, 55 FR 32403
(8) Revisions to SIP Chapter 5, Section 5.2.1 |  | Submitted: 4/18/89 | 8/9/90, 55 FR 32403
(9) Revisions to SIP Chapter 6, Section 6.11 |  | Submitted: 4/18/89 | 8/9/90, 55 FR 32403
(10) Revisions to SIP Chapter 6, Section 6.13 |  | Submitted: 1/9/96 | 4/21/97, 62 FR 19224
(11) Revisions to Chapter 11, Rules & Regulations |  |  |  | See the table listed above under § 52.1820 (c)(1) for most current version of EPA-approved North Dakota regulations.
(12) SIP to meet Air Quality Monitoring 40 CFR part 58, subpart c, paragraph 58.20 and public notification required under section 127 of the Clean Air Act | Statewide | Submitted: 1/17/80 | 8/12/80, 45 FR 53475
(13) Stack Height Demonstration Analysis | Statewide | Submitted: 4/18/86 and 7/21/87 | 6/7/89, 54 FR 24334
(14) Visibility New Source Review and Visibility Monitoring | Statewide | Submitted: 1/26/88 | 9/28/88, 53 FR 37757
(15) Commitment to revise stack height rules in response to NRDC v. Thomas, 838 F.2d 1224 (DC Cir. 1988) | Statewide | Submitted: 5/11/88 | 11/14/88, 53 FR 45763 | See also 40 CFR 52.1832.
(16) Visibility General Plan and Long-term Strategy | Statewide | Submitted: 4/18/89 | 10/5/89, 54 FR 41094 | See also 40 CFR 52.1831.
(17) Group III PM10 SIP | Statewide | Submitted: 4/18/89 | 8/9/90, 55 FR 32403 | See additional interpretive materials cited in 55 FR 32403, 8/9/90.
(18) Commitment to meet all requirements of EPA's Guideline on Air Quality Models (revised) for air quality modeling demonstrations associated with the permitting of new PSD sources, PSD major modifications, and sources to be located in nonattainment areas | Statewide | Submitted: 2/14/92 | 6/26/92, 57 FR 28619 | See additional interpretive materials cited in 57 FR 28619, 6/26/92. Also see 40 CFR 52.1824.
(19) Small Business Assistance Program (SIP Chapter 12) | Statewide | Submitted: 11/2/92 and 1/18/93 | 1/11/94, 59 FR 1485 | See additional interpretive materials cited in 59 FR 1485, 1/11/94.
³ In order to determine the EPA effective date for a specific provision listed in this table, consult the Federal Register notice cited in this column for the particular provision.

[FR Doc. E7-3314 Filed 2-28-07; 8:45 am]

BILLING CODE 6560-50-P